DEPARTMENT OF COMMERCE

International Trade Administration

Export Trade Certificate of Review

ACTION: Notice of issuance of an amended export trade certificate of review, application No. 87-17A04.

SUMMARY: The Department of Commerce has issued an amended Export Trade Certificate of Review (“Certificate”) to The Association for Manufacturing Technology. Notice of issuance of the original Certificate was published in the Federal Register on May 22, 1987 (52 FR 19371).

FOR FURTHER INFORMATION CONTACT: Jeffrey Anspacher, Director, Office of Export Trading Company Affairs, International Trade Administration, (202) 482-5131, (this is not a toll free number) or by E-mail at oetca@ita.doc.gov.

SUPPLEMENTARY INFORMATION: Title III of the Export Trading Company Act of 1982 (15 U.S.C. 4001-21) authorizes the Secretary of Commerce to issue Export Trade Certificates of Review. The regulations implementing Title III are found at 15 CFR part 325 (2003).

The Office of Export Trading Company Affairs (“OETCA”) is issuing this notice pursuant to 15 CFR 325.6(b), which requires the Department of Commerce to publish a summary of a Certificate in the Federal Register. Under section 305(a) of the Act and 15 CFR 325.11(a), any person aggrieved by the Secretary's determination may, within 30 days of the date of this notice, bring an action in any appropriate district court of the United States to set aside the determination on the ground that the determination is erroneous.

Description of Amended Certificate

The Association for Manufacturing Technology's (“AMT”) original certificate was issued on May 19, 1987 (52 FR 19371, May 22, 1987) and lastly amended on March 1, 2002 (67 FR 12524 , March 19, 2002).

AMT's Certificate has been amended as follows:

(1) The following companies have been added as “Members” of the Certificate within the meaning of section 325.2(l) of the Regulations (15 CFR 325.2(l)):

A & A Manufacturing Company, Inc., New Berlin, WI;

Abbott Workholding Products, Manhattan, KS;

Action SuperAbrasive Products, Brimfield, OH;

Acu-Rite, Jamestown; NY;

Adept Technology Inc., Livermore, CA;

Agie Charmilles Group, Charlotte, NC;

Ahaus Tool and Engineering, Inc., Richmond, IN;

Airflow Systems, Inc., Dallas, TX;

Airtronics Gage & Machine Co., Elgin, IL;

Allen-Brady Co./Rockwell Automation, Milwaukee, WI;

Allied Machine & Engineering Corp., Dover, OH;

Aloris Tool Technology Co., Inc., Clifton, NJ;

AltaMAR Laser and Control, Fridley, MN;

Amada America Inc., Buena Park, CA;

Atlas Technologies Inc., Fenton, MI;

ATS Workholding, Inc., Anaheim, CA;

Automation Specialties, Inc., Howell, MI;

Automation Tool Company, Cookeville, TN;

Baublys Control Laser, Orlando, FL;

Beaumont Machine, Inc., Milford, OH;

Better Engineering, Mfg., Inc., Baltimore, MD;

Bock Workholding Inc., Mars, PA;

Bosch Rexroth-Electric Drives & Cntrls, Hoffman Estates, IL;

Brinkman International Group, Inc., Rochester, NY;

Buck Forkardt Inc., Portage, MI;

Carboloy Inc., Detroit, MI;

Cedarberg Industries, Inc., Eagan, MN;

Chick Workholding Solutions, Inc., Warrendale, PA;

Cincinnati Grinding Technologies, Middletown, OH;

CNC Engineering, Inc., Enfield, CT;

Coe Press Equipment Corp., Sterling Heights, MI;

Columbus McKinnon for the activities of its Positech Division, Laurens, IA;

Control Gaging, Inc., Ann Arbor, MI;

CRI, Centerless Rebuilders, Inc., Chesterfield Township, MI;

Curran Manu. Corp. for the activities of its Royal Products Division, Hauppauge, NY;

Cutting Edge Optronics, Inc., Saint Charles, MO;

Cyril Bath Company, Monroe, NC;

Daco Jaw Company, Milwaukee, WI;

Daewoo Heavy Industries, America Corp., West Caldwell, NJ;

Detroit Edge Tool Company, Detroit, MI;

DiManco, Inc., Utica, NY;

Dorian Tool International, East Bernard, TX;

Doringer Cold Saws, Inc., Gardena, CA;

DP Technology Corp. /ESPRIT, Camarillo, CA;

DS Technology (USA) Inc., Cincinnati, OH;

Eagle Machine Tools, Inc., Fort Lauderdale, FL;

Eimeldingen Corporation, Indianapolis, IN;

Eitel Presses, Inc., Orwigsburg, PA;

EMAG L.L.C., Farmington Hills, MI;

Enerpac., Milwaukee, WI;

Engis Corporation, Wheeling, IL;

Eriez Magnetics, Erie, PA;

ExxonMobil Lubricants & Petrol Spec Co., Fairfax, VA;

Fagor Automation Corporation, Elk Grove Village, IL;

FANUC Robotics America, Inc., Rochester Hills, MI;

Fred V. Fowler Co., Inc., Newton, MA;

GE Fanuc Automation Americas, Inc., Charlottesville VA;

Gibbs & Associates, Moorpark, CA;

Giddings & Lewis LLC, Fon DU Lac, WI;

Russell T. Gillman, Inc.—An SKF Co., Grafton, WI;

Gleason Corporation, Rochester, NY;

Govro-Nelson Company, St. Clair, MI;

Gudel Lineartec, Inc., Ann Arbor, MI;

Guhring, Inc., Brookfield, WI;

Hangsterfer's Laboratories, Inc., Mantua, NJ;

Hansford Parts And Products, Macedon, NY;

Heller Machine Tools, Troy, MI;

Helmel Engineering Products, Inc., Niagara Falls, NY;

Hines Industries, Inc., Ann Arbor, MI;

Hoffmann Filter Corporation, Brighton, MI;

Huron Machine Products, Inc., Fort Lauderdale, FL;

INA USA, Corp., Fort Mill, SC;

Inductoheat, Inc., Madison Heights, MI;

Ingersoll Cutting Tool Company, Rockford, IL;

Ingersoll Production Systems, Rockford, IL;

Innovative Products & Equip., Inc., Lowell, MA;

Intelitek, Manchester, NH;

Jensen Fabricating Engineers, Inc., Berlin, CT;

Jet Edge, Saint Michael, MN;

Kalamazoo Machine Tool, Portage, MI;

KAPP Technologies, Boulder, CO;

Kennametal Inc.—World Headquarters, Latrobe, PA;

Komet of America, Inc., Schaumburg, IL;

Koolant Koolers, Inc., Kalamazoo, MI;

KPT/Kaiser Precision Tooling, Inc., Elk Grove Village, IL;

Lexair/Production Dynamics, Lexington, KY;

Littell, Addison, IL;

LNS America, Inc., Cincinnati, OH;

Logansport Matsumoto Co., Inc., Logansport, IN;

Lovejoy Tool Company, Inc., Springfield, VT;

Mahr Federal Inc., Providence, RI;

Maintenance Service Corp., Milwaukee, WI;

Mass Finishing, Inc., Delano, MN;

Mastercam/CNC Software, Inc., Tolland, CT;

Master Chemical Corporation, Perrysburg, OH;

Master Work-Holding, Inc., Morganton, NC;

Mate Precision Tooling, Anoka, MN;

MDSI, Ann Arbor, MI;

Mestek Inc., Westfield, MA;

Michigan Custom Machines, Farmington Hills, MI;

Micro Centric Corporation, Plainview, NY;

MIDACO Corp., Elk Grove Village, IL;

M&M Precision Systems Corporation, West Carrollton, OH;

Monsanto Enviro-Chem Systems, Inc., Chesterfield, MO;

Nook Industries, Inc., Cleveland, OH;

Northfield Precision Instrument Corp., Island Park, NY;

NorthTech Workholding, Inc., Schaumburg, IL;

Norwalk Innovation, Inc., Shelton, CT;

Novellus Systems, Inc., Chandler, AZ;

Novi Precision Products, Inc., Brighton, MI;

NSK Precision America Inc., Bloomingdale, IL;

Nuvonyx Inc., Bridgeton, MO;

Penn United Technology, Inc., Saxonburg, PA;

Phillips Corporation, Columbia, MD;

PIA Group, Cincinnati, OH;

Pines Manufacturing, Westlake, OH;

Polymer Sealing Solutions for the activities of its Seals Division, Fort Wayne, IN;

Positrol, Inc., Cincinnati, OH;

PowerHold Incorporated, Middlefield, CT;

P R C Laser, Landing, NJ;

Precision Industries Corporation, Elkhart, IN;

Preco Laser Systems, LLC, Somerset, WI;

Premier Tooling Systems, Grand Blanc, MI;

Pressure Island, Davidson, NC;

PRIMA North America, Inc., Chicopee, MA;

QPAC-Quality Products & Concepts, Lansing, MI;

Quality Vision International Inc., Rochester, NY;

Quantronix Corporation, East Setauket, NY;

Ranshoff, Inc., Cincinnati, OH;

Raycon Corporation, Ann Arbor, MI;

Royal Machine & Tool Corporation, Berlin, CT;

Saint-Gobain Abrasives, Inc., Worcester, MA;

W.J. Savage Co. for the activities of its Savage Saws Division, Knoxville, TN;

Schunk, Inc., Morrisville, NC;

Scientific Technologies, Inc., Fremont, CA;

Sescoi USA, Inc., Southfield, MI;

SGS Tool Company, Munroe Falls, OH;

Siemens Energy & Automation, Inc., Elk Grove Village, IL;

SMW Systems, Inc., Santa Fe Springs, CA;

Sortimat Technology L.P., Schaumburg, IL;

Southwestern Industries, Inc., Rancho Dominguez, CA;

SSD Control Technology, Inc., South Bend, IN;

The L.S. Starrett Co., Athol, MA;

The Precise Corporation, Racine, WI;

Tyler Machinery Co., Inc., for the activities of its MBD Machines Div., Warsaw, IN;

Stellram, La Vergne, TN;

S-T Industries, Inc., St. James, MN;

Suburban Tool, Inc., Auburn Hills, MI;

Suhner Manufacturing Inc., Rome, GA;

Systems Engineering Company Inc., Milwaukee, WI;

T2K—Tooling 2000, Redmond, WA;

Telesis Technologies, Inc., Circleville, OH;

The Timken Company, Torrington, CT;

Thomson Industries, Inc., Port Washington, NY;

Tri-Cam, Inc., Rockford, IL;

Tri-Turn Technologies, Inc., Euclid, OH;

Troyke Manufacturing Co., Cincinnati, OH;

TRU TECH Systems, Inc., Mount Clemens, MI;

Ultra-Grip International, Inc., Walled Lake, MI;

Unist, Inc., Grand Rapids, MI;

Vektek, Inc., Elwood, KS;

Vermont Machine Tool Corp., Springfield, VT;

Vibro/Dynamics Corporation, Broadview, IL;

VX Corporation, Palm Bay, FL;

O. S. Walker Company, Worcester, MA;

Walter Waukesha, Inc., Waukesha, WI.

(2) The following companies have been deleted as “Members” of the Certificate within the meaning of section 325.2(l) of the Regulations (15 CFR 325.2(l)):

Alliance Automation Systems

ATS Carolina

ATS Michigan

ATS Ohio

ATS Oregon

ATS Southwest

BHS-Torin Inc.

Blue Valley Machine and Manufacturing Co.

Bridgeport Machines, Inc.

Cargill Detroit Corp.

Cone-Blanchard Machine Co.

Centro-Metalcut Inc.

Dustvent Inc.

Dynetics Corporation

Eagle Eaton Leonard Inc.

Edgetek Machine Corp.

Evana Automation Inc.

E.W. Bliss Company

Gallmeyer & Livingston Company

Goss & De Leeuw Machine Company, The

Grav-I-Flo Corp.

Griffin Automation

Hansvedt EDM Division

Hegenscheidt Corporation

Heim Corp.

Herman Williams Company, Inc.

Hertlein Special Tool Co., Inc.

Hitachi Seiki USA

HR Krueger Machine Tool Inc.

Hybco Products, Inc.

Hyd-Mech Inc.

Komatus Cutting Technologies

Manufacturing Technology, Inc. (California)

Masco Machine, Inc.

Morey Machinery Design & Manufacturing (used to be Morey Machinery Mfg. Corp.)

Motch Corporation

Onsrud Machine Corp.

P S Group

R & B Machine Tool Co.

Redin Corporation

Robert Bosch Corporation for the activities of its Surf/Tran Division

Sout Bend Lathe Corp.

Taurus Products, Inc.

TCE Corporation

The National Acme Company

Wesel Manufacturing Co.

Wisconsin Machine Tool Corp.

Xermac, Inc.

(3) The listings of the following “Members” have been changed:

“ABB Flexible Automation Systems, Inc.” to “ABB Inc.-Mfg & Consumer Industries Grp”; “Advanced Assembly Automation, Inc.” to “DT Industries”; “The Beckwood Corporation” to “Beckwood Press Company”; “The Bodine Corporation” to “Bodine Assembly and Test Systems”; “Broaching Machine Specialties” to “Broaching Machine Specialties Co.”; “Brown & Sharpe Manufacturing Co.” to “Brown & Sharpe, Inc.”; “Capco, Inc.” to “Capco Machinery Systems, Inc.”; “Chas. G Allen Co.” to “Chas. G Allen Co., Inc.”; “The Cincinnati Gilbert Mach. Tool Co. L.L.C.” to “The Cincinnati Gilbert Mach. Tool Co.”; “Crankshaft Machine Group” to “CMG”; “Dake” to “Dake-JSJ Corporation”; “Denford Machine Tools, USA, Inc.” to “Denford Inc.”; “DT Industries, Inc.” to “DT Industries”; “ESAB L-TEC Cutting Systems” to “ESAB Cutting Systems”; “Fayscott Co.” to “Fayscott LLC”; “The Gem City Engineering Co.” to “GCE Technologies”; “Hess Engineering, Inc.” to “Hess Industries, Inc.”; “Industrial Metal Products Corp.” to “IMPCO Machine Tools”; “Kingsbury Machine Tool Corporation” to “Kingsbury Corporation”; “Kleer-Flo Company” to “KLEENTEC/KLEERFLO”; “Lapmaster International” to “Lapmaster International-US”; “Livernois Engineering” to “Outokumpu Livernois Engineering LLC”; “Milacron, Inc.” to “Milicron, Inc.-Headquarters”; “Miyano Machinery USA Inc.” to “Miyano Machinery Inc.”; “Moline Tool Company, Inc.” to “Moline Tool”; “Murata Wiedemann, Inc.” to “Murata Machinery USA, Inc.-Machine Tools”; “National Broach & Machine Co.” to “Nachi Machining Technology Company”; “Newcor, Inc.” to “Newcor Bay City”; “New Nine Inc., d/b/a GWI Engineering” to “GWI Engineering, Inc.”; “Okuma, Inc.” to “Okuma America Corporation (OAC)”; “RMT Technologies” to “RMT Technology”; “Seneca Falls Technology Group” to “Seneca Falls Tech Grp—Machine Blders Division”; “SMS Group Inc.” to “Saginaw Machine Systems”; “Strippit, Inc.” to “Strippit/LVD”; “UNOVA Inc.” to “UNOVA Industrial Automation Systems”; “Wilton Machinery” to “WMH Tool Group”.

Dated: February 18, 2004.
Jeffrey Anspacher,
Director, Office of Export Trading Company Affairs.

[FR Doc. 04-4440 Filed 2-27-04; 8:45 am]

BILLING CODE 3510-DR-P